LIBRARY OF CONGRESS

U.S. Copyright Office

37 CFR Part 201

[Docket No. 2024-7]

Electronic Payment of Royalties Using Pay.gov

AGENCY: U.S. Copyright Office, Library of Congress.

ACTION: Final rule.

SUMMARY: The Copyright Office is issuing a final rule to amend its regulations regarding the submission of royalty fees to the Copyright Office to require that all such fees be paid using Pay.gov.

DATES: Effective April 30, 2025.

FOR FURTHER INFORMATION CONTACT: Rhea Efthimiadis, Assistant to the General Counsel, by email at meft@copyright.gov, or by telephone at 202-707-8350.

SUPPLEMENTARY INFORMATION: The section 111 of the Copyright Act (“Act”), title 17 of the United States Code, provides cable operators with a statutory license to retransmit a performance or display of a work embodied in a “primary transmission” made by a television station licensed by the Federal Communications Commission (“FCC”). Cable operators that retransmit broadcast signals in accordance with this provision are required to pay royalty fees to the Copyright Office (“Office”), among other requirements. Similarly, section 119 of the Act provides satellite carriers with a statutory license to retransmit certain primary transmissions if they satisfy certain criteria, for which they also must pay royalty fees to the Office. In addition, sections 1003 and 1004 of the Act require manufacturers and importers of digital audio recording devices and digital audio recording media (“DART”) to pay royalty fees to the Office.

On December 12, 2024, the Office published a notice of proposed rule rulemaking (“NPRM”) setting forth proposed amendments to the regulations governing the submission of royalty fees by cable operators, satellite carriers, and DART operators to require that these fees be paid using the U.S. Treasury Department's Pay.gov system.¹ As noted in the NPRM, mandating Pay.gov benefits both filers and the Office because it streamlines the process to receive, reconcile, and post payments; provides remitters with the convenience of using a variety of methods, including credit or debit cards, as a form of payment; and eliminates redundancy.²

¹ 89 FR 100439.

² Id. at 100439-40.

The Office did not receive any relevant comments from the public in response to this rulemaking. As a result, the Office is adopting the proposed amendments as final without change. To guide remitters unfamiliar with Pay.gov, the Office has created Pay.gov tutorials, which are posted on the Licensing Section's website.³

³ United States Copyright Office, Circular 74, June 2022: How to Make Statutory License Royalty EFT Payments Using Pay.gov, https://copyright.gov/circs/circ74.pdf; United States Copyright Office, Make Statutory License Royalty Payments Using Pay.gov, https://copyright.gov/licensing/eftpayment.

List of Subjects in 37 CFR Part 201

Copyright, General provisions.

Final Regulations

For the reasons set forth in the preamble, the Copyright Office amends 37 CFR part 201 as follows:

PART 201—GENERAL PROVISIONS

1. The authority citation for part 201 continues to read as follows:

Authority: 17 U.S.C. 702.

2. Amend § 201.11 by revising paragraphs (f)(1) and (h)(3)(iv) to read as follows:

§ 201.11 Satellite carrier statements of account covering statutory licenses for secondary transmissions.

* * * * *

(f) * * *

(1) All royalty fees shall be paid by electronic funds transfer using Pay.gov, and payment must be received in the designated bank by the filing deadline for the relevant accounting period. Satellite carriers must provide specific information as part of the EFT and as part of the remittance advice, as listed in the instructions for Pay.gov, the Statement of Account form, and the Office's website.

* * * * *

(h) * * *

(3) * * *

(iv)(A) All requests filed under this paragraph (h) must be accompanied by a filing fee in the amount prescribed in § 201.3(e) for each Statement of Account involved. Payment of this fee must be by EFT using Pay.gov. No request will be processed until the appropriate filing fees are received.

(B) All requests that a supplemental royalty fee payment be received for deposit under this paragraph (h) must be accompanied by a remittance in the full amount of such fee. Payment of the supplemental royalty fee must be by EFT using Pay.gov. No such request will be processed until an acceptable remittance in the full amount of the supplemental royalty fee has been received.

* * * * *

3. Amend § 201.17 by revising paragraphs (k)(1) and (l)(4)(iv) to read as follows:

§ 201.17 Statements of Account covering compulsory licenses for secondary transmissions by cable systems.

* * * * *

(k) * * *

(1) All royalty fees must be paid by electronic funds transfer (EFT) using Pay.gov, and must be received in the designated bank by the filing deadline for the relevant accounting period. Cable systems must provide specific information as part of the EFT and as part of the remittance advice, as listed in the instructions for Pay.gov, the Statement of Account form and on the Office's website.

* * * * *

(l) * * *

(4) * * *

(iv)(A) All requests filed under this paragraph (l) must be accompanied by a filing fee in the amount prescribed in § 201.3(e) for each Statement of Account involved. Payment of this fee must be made by an electronic payment using Pay.gov. No request will be processed until the appropriate filing fees are received; and

(B) All requests that a supplemental royalty fee payment be received for deposit under this paragraph (l) must be accompanied by a remittance in the full amount of such fee. Payment of the supplemental royalty fee must be by an electronic payment using Pay.gov. No such request will be processed until an acceptable remittance in the full amount of the supplemental royalty fee has been received.

* * * * *

4. Amend § 201.28 by revising paragraphs (h)(1) and (j)(3)(v) to read as follows:

§ 201.28 Statements of Account for digital audio recording devices or media.

* * * * *

(h) * * *

(1) All royalty fees must be paid by electronic funds transfer (EFT) using Pay.gov, and must be received in the designated bank by the filing deadline for the relevant accounting period. Remitters must provide specific information as part of the EFT and as part of the remittance advice, as listed in the instructions for Pay.gov, the Statement of Account form, and the Office's website.

* * * * *

(j)) * * *

(3) * * *

(v)(A) The request must be accompanied by a filing fee in the amount prescribed in § 201.3(e) for each Statement of Account involved. Payment of this fee must be by EFT using Pay.gov. No request will be processed until the appropriate filing fees are received.

(B) Requests that a supplemental royalty fee payment be deposited must be accompanied by a remittance in the full amount of such fee. Payment of the supplemental royalty fee must be by electronic payment using Pay.gov. No such request will be processed until an acceptable remittance in the full amount of the supplemental royalty fee has been received.

* * * * *

Shira Perlmutter,
Register of Copyrights and Director of the U.S. Copyright Office.
Approved by:
Carla D. Hayden,
Librarian of Congress.

[FR Doc. 2025-05444 Filed 3-28-25; 8:45 am]

BILLING CODE 1410-30-P